COMMITTEE FOR PURCHASE FROM PEOPLE WHO ARE BLIND OR SEVERELY DISABLED

Procurement List; Proposed additions and deletions

AGENCY: Committee for Purchase From People Who Are Blind or Severely Disabled.

ACTION: Proposed additions to and deletions from the Procurement List.

SUMMARY: The Committee is proposing to add product(s) the Procurement List that will be furnished by nonprofit agencies employing persons who are blind or have other severe disabilities, and deletes product(s) and service(s) previously furnished by such agencies.

DATES: Comments must be received on or before: February 28, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) listed below from nonprofit agencies employing persons who are blind or have other severe disabilities.

The following product(s) are proposed for addition to the Procurement List for production by the nonprofit agencies listed:

Product(s)

NSN(s)—Product Name(s):

MR 10793—Refrigerator Freshener, Includes Shipper 20793

Designated Source of Supply: Winston-Salem Industries for the Blind, Inc., Winston-Salem, NC

Contracting Activity: Military Resale-Defense Commissary Agency

List Designation: C-List

Mandatory For: The requirements of military commissaries and exchanges in accordance with the 41 CFR 51-6.4

NSN(s)—Product Name(s):

6135-01-630-6867—Battery, Zinc Carbon, Lantern, Non-Rechargeable, 6V, Screw Terminal

Designated Source of Supply: Eastern Carolina Vocational Center, Inc., Greenville, NC

Contracting Activity: DEFENSE LOGISTICS AGENCY, DLA LAND AND MARITIME

List Designation: C-List

Mandatory For: 100% of the requirement of the Department of Defense

Deletions

The following product(s) and service(s) are proposed for deletion from the Procurement List:

Product(s)

NSN(s)—Product Name(s):

5855-00-125-0713—Strap Assembly, Night Vision

Designated Source of Supply: Cambria County Association for the Blind and Handicapped, Johnstown, PA

Contracting Activity: DLA AVIATION, RICHMOND, VA

NSN(s)—Product Name(s):

4240-01-441-0562—Head Harness (without Mask)

Contracting Activity: W4GG HQ US ARMY TACOM, ROCK ISLAND, IL

NSN(s)—Product Name(s):

3990-00-892-4394—Pallet, Material Handling

Designated Source of Supply: Northeastern Michigan Rehabilitation and Opportunity Center (NEMROC), Alpena, MI; Knox County Association for Remarkable Citizens, Inc., Vincennes, IN

Contracting Activity: DLA TROOP SUPPORT, PHILADELPHIA, PA

NSN(s)—Product Name(s):

5340-01-118-6678—Clamp, Loop, CRES, 3/4″ Loop x 1/2″ wide

5340-01-252-4644—Clamp, Loop, CRES, 14/16″ loop x 1/2″ wide

Designated Source of Supply: Skookum Educational Programs, Bremerton, WA

Contracting Activity: DLA TROOP SUPPORT, PHILADELPHIA, PA

Service(s)

Service Type: Mail Management Support Service

Mandatory for: US Navy, Official Mail Centers Carderock, West Bethesda, MD

Designated Source of Supply: NewView Oklahoma, Inc., Oklahoma City, OK

Contracting Activity: DEPT OF THE NAVY, NAVSUP FLT LOG CTR NORFOLK

Service Type: Acquisition Support Services

Mandatory for: DCMA Headquarters, Alexandria, VA

Designated Source of Supply: Virginia Industries for the Blind, Charlottesville, VA

Contracting Activity: DEFENSE CONTRACT MANAGEMENT AGENCY (DCMA), DEFENSE CONTRACT MANAGEMENT AGENCY

Service Type: Administrative and Professional Support Services

Mandatory for: Executive Office of the President, Washington, DC

Mandatory Source of Supply: Columbia Lighthouse for the Blind, Washington, DC

Contracting Activity: EXECUTIVE OFFICE OF THE PRESIDENT, EXECUTIVE OFFICE OF THE PRESIDENT

Service Type: Customer Service Representatives

Mandatory for: Fleet and Industrial Supply Center: SERVMART Division, Norfolk, VA

Designated Source of Supply: Virginia Industries for the Blind, Charlottesville, VA

Contracting Activity: GENERAL SERVICES ADMINISTRATION, FPDS AGENCY COORDINATOR

Service Type: Customer Service Representatives

Mandatory for: GSA, Northwest Arctic Region: 400 15th Street, SW, Auburn, WA

Designated Source of Supply: The Lighthouse for the Blind, Inc. (Seattle Lighthouse), Seattle, WA

Contracting Activity: GENERAL SERVICES ADMINISTRATION, FPDS AGENCY COORDINATOR

Service Type: Switchboard Operation

Mandatory for: Harry S. Truman Memorial Veterans Hospital, Columbia, MO

Designated Source of Supply: Alphapointe, Kansas City, MO

Contracting Activity: VETERANS AFFAIRS, DEPARTMENT OF, NAC

Michael R. Jurkowski,
Deputy Director, Business & PL Operations.

[FR Doc. 2021-01980 Filed 1-28-21; 8:45 am]

BILLING CODE 6353-01-P